ENVIRONMENTAL PROTECTION AGENCY

[EPA-HQ-OAR-2007-1196; FRL-8772-3]

Recent Postings of Broadly Applicable Alternative Test Methods

AGENCY: Environmental Protection Agency (EPA).

ACTION: Notice of availability.

SUMMARY: This notice announces the broadly applicable alternative test method approval decisions the EPA has made under and in support of New Source Performance Standards (NSPS) and the National Emission Standards for Hazardous Air Pollutants (NESHAP) in 2008.

FOR FURTHER INFORMATION CONTACT: An electronic copy of each alternative test method approval document is available on EPA's Web site at http://www.epa.gov/ttn/emc/approalt.html. For questions about this notice, contact Jason M. DeWees, Air Quality Assessment Division, Office of Air Quality Planning and Standards (E143-02), Environmental Protection Agency, Research Triangle Park, NC 27711; telephone number: 919-541-9724; fax number: 919-541-0516; e-mail address: dewees.jason@epa.gov. For technical questions about individual alternative test method decisions, refer to the contact person identified in the individual approval documents.

SUPPLEMENTARY INFORMATION:

I. General Information

A. Does This Notice Apply to Me?

This notice will be of interest to entities regulated under 40 CFR parts 60, 61, and 63, and State, local, Tribal agencies, and EPA Regional Offices responsible for implementation and enforcement of regulations under 40 CFR parts 60, 61, and 63.

B. How Can I Get Copies of This Information?

You may access copies of the broadly applicable alternative test method approval documents from the EPA's Web site at http://www.epa.gov/ttn/emc/approalt.html.

II. Background

This notice identifies EPA's broadly applicable alternative test method approval decisions issued between January 1, 2008, and December 31, 2008, under the New Source Performance Standards (NSPS), 40 CFR part 60, and the National Emission Standards for Hazardous Air Pollutants (NESHAP), 40 CFR parts 61 and 63 (see Table 1). Source owners and operators may voluntarily use these broadly applicable alternative test methods subject to their specific applicability. Use of these broadly applicable alternative test methods does not change the applicable emission standards.

As explained in a previous Federal Register notice published at 72 FR 4257, 1/30/07 and found on the EPA's Web site at http://www.epa.gov/ttn/emc/approalt.html, the EPA Administrator has the authority to approve the use of alternative test methods to comply with requirements under 40 CFR parts 60, 61, and 63. This authority is found in sections 60.8(b)(3), 61.13(h)(1)(ii), and 63.7(e)(2)(ii). Over the years, we have performed thorough technical reviews of numerous requests for alternatives and modifications to test methods and procedures. Based on these experiences, we have found that often these changes or alternatives would be equally valid and appropriate to apply to other sources within a particular class, category, or subcategory. Consequently, we have concluded that where a method modification or a change or alternative is clearly broadly applicable to a class, category, or subcategory of sources, it is both more equitable and efficient to approve its use for all appropriate sources and situations at the same time.

It is important to clarify that alternative methods are not mandatory but permissive. Sources are not required to employ such a method but may choose to do so in appropriate cases. Source owners or operators should review the specific broadly applicable alternative method approval decision on the EPA's Web site at http://www.epa.gov/ttn/emc/approalt.html before electing to employ it. By electing to use an alternative method, the source owner or operator consents to thereafter demonstrate compliance with applicable requirements based on the results of the alternative method until approved to do so otherwise.

The criteria for approval and procedures for submission and review of broadly applicable alternative test methods are outlined at 72 FR 4257, 1/30/07. EPA will continue to announce approvals for broadly applicable alternative test methods on the EPA's Web site at http://www.epa.gov/ttn/emc/approalt.html and intends to publish a notice annually that summarizes approvals for broadly applicable alternative test methods.

This notice comprises a summary of eleven such approval documents added to our technology transfer network from January 1, 2008, through December 31, 2008. The alternative test number, the reference method affected, sources affected, and modification or alternative method allowed are summarized in Table 1 of this notice. Please refer to the complete copies of these approval documents available from the EPA's Web site at http://www.epa.gov/ttn/emc/approalt.html as the table serves only as a summary of the broadly applicable alternative test methods. If you are aware of reasons why a particular alternative test method approval that we issue should not be broadly applicable, we request that you make us aware of the reasons within 60 days of the Federal Register notice announcing the broad approval, and we will revisit the broad approval. Any objection to a broadly applicable alternative test method as well as the resolution of that objection will be announced on the EPA's Web site at http://www.epa.gov/ttn/emc/approalt.html and in the subsequent Federal Register notice. If we should decide to retract a broadly applicable test method, we would continue to grant case-by-case approvals, as appropriate, and would (as States, local and Tribal agencies and EPA Regional Offices should) consider the need for an appropriate transition period for users either to request case-by-case approval or to transition to an approved method.

Dated: January 29, 2009.
Stephen D. Page,
Director, Office of Air Quality Planning and Standards.

Table 1—Approved Alternative Test Methods and Modifications to Test Methods Under Appendices A, B or F in CFR 60, 61, and 63 Made Between January 2008 and December 2008
Alternative No. | As an alternative or modification to . . . | For . . . | You may . . .
Alt-039 | Method 101A—Determination of Particulate and Gaseous Mercury Emissions from Sewage Sludge Incinerators | Sludge Drying or Sludge Incineration Facilities affected under the NESHAP for Mercury in 40 CFR part 61, subpart E | Use Method 29 with limitations outlined in the approval letter in lieu of Method 101A.
Alt-040 | Method 25C—Determination of Nonmethane Organic Compounds (NMOC) in Landfill Gas | Sources affected under the NSPS for Municipal Solid Waste Landfills in 40 CFR part 60, subpart WWW | Use of a Geoprobe brand sampling probe to create a sampling void.
|  |  | Use of a polyethylene sampling tubing.
|  |  | Use of a critical orifice to regulate flow.
Alt-041 | Method 25C—Determination of Nonmethane Organic Compounds (NMOC) in Landfill Gas | Sources affected under the NSPS for Municipal Solid Waste Landfills in 40 CFR part 60, subpart WWW | Use of extraction wells and leachate risers for sampling locations in lieu of the inserting surface probes.
Alt-042 | Method 3C—Determination of Carbon Dioxide, Methane, Nitrogen, and Oxygen from Stationary Sources | Sources affected under the NSPS for Municipal Solid Waste Landfills in 40 CFR part 60, subpart WWW | Use handheld combustion meters in lieu of Method 3C for 2 of the 3 runs.
Alt-042 | Method 22—Visual Determination of Fugitive Emissions from Material Sources and Smoke Emissions from Flares | Sources affected under the NSPS for Municipal Solid Waste Landfills in 40 CFR part 60, subpart WWW | Reduce Method 22 run times from 2 hours to 30 minutes.
Alt-043 | Method 26A—Determination of Hydrogen Halide and Halogen Emissions from Stationary Sources Isokinetic Method | Sources subject to 40 CFR part 63, subpart RRR—National Emission Standards for Hazardous Air Pollutants for Secondary Aluminum Production | Use Method 26 in lieu of Method 26A provided the emission stream does not contain water droplets.
Alt-044 | Performance Specification 4B—Specifications and Test Procedures for Carbon Monoxides and Oxygen Continuous Monitoring Systems in Stationary Sources | Sources subject to 40 CFR part 63, subpart EEE, National Emissions Standards for Hazardous Air Pollutants for Hazardous Waste Combustors | Use of the alternative relative accuracy procedures in Section 7.3 of PS 4B when CO emissions levels are consistently very low or low and interrupted periodically by short duration high level spikes.
Alt-045 | Method 3C—Determination of Carbon Dioxide, Methane, Nitrogen, and Oxygen from Stationary Sources | Sources affected under the NSPS for Municipal Solid Waste Landfills in 40 CFR part 60, subpart WWW | Use of an alternative calibration procedure based on a drift basis similar to Method 25.
Alt-046 | Method 6C—Determination of Sulfur Dioxides Emissions from Stationary Sources (Instrumental Analyzer Procedure) | Sources affected under the NSPS for Industrial-Commercial-Institutional Steam Generating Units in 40 CFR part 60, subpart Db | Use of Method 320 in lieu of Method 6C.
Alt-046 | Method 7E—Determination of Nitrogen Oxides Emissions from Stationary Sources (Instrumental Analyzer Procedure) | Sources affected under the NSPS for Industrial-Commercial-Institutional Steam Generating Units in 40 CFR part 60, subpart Db | Use of Method 320 in lieu of Method 7E.
Alt-046 | Method 10—Determination of Carbon Monoxide from Stationary Sources (Instrumental Analyzer Procedure) | Sources affected under the NSPS for Industrial-Commercial-Institutional Steam Generating Units in 40 CFR part 60, subpart Db | Use of Method 320 in lieu of Method 10.
Alt-047 | Method 12—Determination of Inorganic Lead from Stationary Sources | Sources required to use Method 12 | Use of Inductively Coupled Plasma—Mass Spectroscopy Analysis as described in Method 6020/6020A in lieu of atomic adsorption spectroscopy for lead.
Alt-047 | Method 103—Beryllium Screening Method | Sources required to use Method 103 | Use of Inductively Coupled Plasma—Mass Spectroscopy Analysis as described in Method 6020/6020A in lieu of atomic adsorption spectroscopy for beryllium.
Alt-047 | Method 104—Determination of Beryllium Emissions from Stationary Sources | Sources required to use Method 104 | Use of Inductively Coupled Plasma—Mass Spectroscopy Analysis as described in Method 6020/6020A in lieu of atomic adsorption spectroscopy for beryllium.
Alt-047 | Method 108—Determination of Particulate and Gaseous Arsenic Emissions | Sources required to use Method 108 | Use of Inductively Coupled Plasma—Mass Spectroscopy Analysis as described in Method 6020/6020A in lieu of atomic adsorption spectroscopy for arsenic.
Alt-047 | Method 108A—Determination of Arsenic Content in Ore Samples from Nonferrous Smelters | Sources required to use Method 108A | Use of Inductively Coupled Plasma—Mass Spectroscopy Analysis as described in Method 6020/6020A in lieu of atomic adsorption spectroscopy for arsenic.
Alt-047 | Method 108B—Determination of Arsenic Content in Ore Samples from Nonferrous Smelters | Sources required to use Method 108B | Use of Inductively Coupled Plasma—Mass Spectroscopy Analysis as described in Method 6020/6020A in lieu of atomic adsorption spectroscopy for arsenic.
Alt-047 | Method 306—Determination of Chromium Emissions from Decorative and Hard Chromium Electroplating and Chromium Anodizing Operation—Isokinetic method | Sources required to use Method 306 | Use of Inductively Coupled Plasma—Mass Spectroscopy Analysis as described in Method 6020/6020A in lieu of atomic adsorption spectroscopy for chromium.
Alt-048 | Method 5—Determination of Particulate Matter Emissions from Stationary Sources | Sources required to use Method 5 | Use of an alternative determination of sample volume and flow rate used by the Isostack metering system.
Alt-049 | Performance Specification 4B—Specifications and Test Procedures for Carbon Monoxides and Oxygen Continuous Monitoring Systems in Stationary Sources | Sources subject to 40 CFR part 63, subpart EEE, National Emissions Standards for Hazardous Air Pollutants for Hazardous Waste Combustors | Use of the alternative relative accuracy procedures in Section 7.3 of PS 4B when CO emissions levels are consistently very low or low and interrupted periodically by short duration high level spikes.
Source owners or operators should review the specific broadly applicable alternative method approval letter on the EPA's Web site at http://www.epa.gov/ttn/emc/approalt.html before electing to employ it.

[FR Doc. E9-4125 Filed 2-25-09; 8:45 am]

BILLING CODE 6560-50-P